NUCLEAR REGULATORY COMMISSION

[Docket Nos. 52-025 and 52-026; ASLBP No. 20-965-03-EA-BD01]

In The Matter of Southern Nuclear Operating Company; Vogtle Electric Generating Plant, Units 3 and 4; Establishment of Atomic Safety and Licensing Board

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

SOUTHERN NUCLEAR OPERATING COMPANY

VOGTLE ELECTRIC GENERATING PLANT, UNITS 3 AND 4

(Confirmatory Order Modifying License)

This Board is being established pursuant to a hearing request submitted by Leonard Sparks in response to a Confirmatory Order, EA-18-130 and EA-18-171, “In the Matter of Southern Nuclear Operating Company, Vogtle Electric Generating Plant, Units 3 and 4,” issued on November 20, 2019 by the NRC Office of Enforcement, and published in the Federal Register. See 84 FR 65426 (Nov. 27, 2019).

The Board is comprised of the following Administrative Judges:

E. Roy Hawkens, Chairman, Atomic Safety and Licensing Board Panel, U.S. Nuclear Regulatory Commission, Washington, DC 20555-0001

Michael M. Gibson, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other materials shall be filed in accordance with the NRC E-Filing rule. See 10 CFR 2.302.

Rockville, Maryland.
Dated: December 27, 2019.
Edward R. Hawkens,
Chief Administrative Judge, Atomic Safety and Licensing Board Panel.

[FR Doc. 2020-00228 Filed 1-9-20; 8:45 am]

BILLING CODE 7590-01-P